DEPARTMENT OF COMMERCE

International Trade Administration

[A-570-822]

Certain Helical Spring Lock Washers From the People's Republic of China: Notice of Extension of Time Limit of Preliminary Results of Antidumping Duty Administrative Review

AGENCY: Import Administration, International Trade Administration, Department of Commerce.

ACTION: Notice of extension of time limit of preliminary results of antidumping duty administrative review.

SUMMARY: The Department of Commerce (the Department) is extending the preliminary results in the antidumping duty administrative review of certain helical spring lock washers (lock washers) from the People's Republic of China (PRC) covering the period October 1, 2002, to September 30, 2003. This extention is made pursuant to section 751(a)(3)(A) of the Tariff Act of 1930, as amended (the Act).

EFFECTIVE DATE: June 25, 2004.

FOR FURTHER INFORMATION CONTACT: Marin Weaver at (202) 482-2336, or Charles Riggle at (202) 482-0650, AD/CVD Enforcement Office 5, Import Administration, International Trade Administration, U.S. Department of Commerce, 14th Street and Constitution Avenue, NW., Washington, DC 20230.

Extension of Preliminary Results

Section 751(a)(3)(A) of the Act requires the Department to complete the preliminary results within 245 days after the last day of the anniversary month of an order/finding for which a review is requested and the final results within 120 days after the date on which the preliminary results are published. However, if it is not practicable to complete the review within these time periods, section 751(a)(3)(A) of the Act allows the Department to extend the time limit for the preliminary results to a maximum of 365 days after the last day of the anniversary month of an order/finding for which a review is requested and for the final results to 180 days (or 300 days if the Department does not extend the time limit for the preliminary results) from the date of publication of the preliminary results.

Background

On November 28, 2003, the Department of Commerce (the Department) published a notice of initiation of administrative review of the antidumping duty order on lock washers from the PRC, covering the period October 1, 2002, through September 30, 2003 (68 FR 66799). The preliminary results for this review are currently due no later than July 2, 2004.

Extension of Time Limit for Preliminary Results of Review

We determine that it is not practicable to complete the preliminary results of this review within the original time limit for the reasons stated in our memorandum from Edward Yang, Director, China/NME Unit, AD/CVD Enforcement, to Jeffery A. May, Deputy Assistant Secretary for Import Administration, Group I, which is on file in the Central Records Unit, Room B-099 of the main Commerce building. Therefore, the Department is extending the time limit for completion of the preliminary results until no later than November 1, 2004. We intend to issue the final results no later than 120 days after publication of the preliminary results notice.

This extension is in accordance with section 751(a)(3)(A) of the Act.

Dated: June 21, 2004.
Jeffrey A. May,
Deputy Assistant Secretary for Import Administration, Group I.

[FR Doc. 04-14493 Filed 6-24-04; 8:45 am]

BILLING CODE 3510-DS-P